SOCIAL SECURITY ADMINISTRATION

[Docket No. SSA-2012-0026]

Charging Standard Administrative Fees for Nonprogram-Related Information

AGENCY: Social Security Administration.

ACTION: Notice of standard administrative fees for providing information and related services for nonprogram-related purposes.

SUMMARY: We are announcing the standardized administrative fees we will charge to recover our full cost of providing information and related services for nonprogram purposes we provide to the public. Previously, the fees we charged for nonprogram information requests were not standardized. Standard fee implementation will ensure fees are consistent and that we collect the full cost of supplying our information when a request is for a purpose not directly related to our administration of a program under the Social Security Act (Act). We expect the implementation of standard fees across all field offices will allow us to provide consistent service to members of the public who request information from us for nonprogram-related purposes.

DATES: The standard administrative fees will apply to requests for information for nonprogram-related purposes we receive on or after August 22, 2012.

FOR FURTHER INFORMATION CONTACT: Karen Huelskamp, Social Security Administration, Office of Finance, 6401 Security Boulevard, Baltimore, MD 21235-6401, (410) 966-4890 for information about this notice. For information on eligibility or filing for benefits, call our national toll-free number, 1-800-772-1213 or TTY 1-800-325-0778, or visit our Internet site, Social Security Online, at http://www.socialsecurity.gov.

SUPPLEMENTARY INFORMATION: We administer several benefit programs under the Act, including the Retirement and Survivors Insurance (RSI), Disability Insurance (DI), and Supplemental Security Income (SSI) programs. To administer these programs, we collect information from individuals and entities, such as other governmental agencies, and then store this information in our systems. Our employees can retrieve this information by accessing our computer systems. Generally, we use the information we collect and store for purposes of administering the Social Security benefit programs. However, sometimes individuals ask us to release this information to appointed representatives, private companies, or other third parties. When we release this information for a purpose not related to implementation of our programs, we consider it a nonprogram-related service. Nonprogram-related services are not within our mission, and we are required to recover the cost of providing those services.

Section 1106 of the Act and the Privacy Act ¹ authorize the Commissioner of Social Security to promulgate regulations regarding agency records and information and to charge fees for providing information and related services. Our regulations and operating instructions identify when we will charge fees for information.² Under our regulations, whenever we determine a request for information is for any purpose not directly related to the administration of the Social Security programs, we require the requester to pay the full cost of providing the information.

¹ 42 U.S.C. 1306 and 5 U.S.C. 552a, respectively.

² See 20 CFR 402.170, 402.175; Program Operations Manual System (POMS) GN 03311.005.

We receive a large number of requests for nonprogram-related information from third parties, such as private companies, as well as individuals. The number of applications for RSI, DI, and SSI we receive continues to grow. In addition to processing applications, our field offices are responsible for other program-related workloads, such as conducting continuing disability reviews and processing requests for original Social Security Numbers (SSN) and replacement Social Security cards. These services relate directly to our mission and the programs we administer under the Act. Nonprogram- related services are not within our mission, and we recover our full cost when we perform those services, with certain limited exceptions.³

³ Office of Management and Budget (OMB), Circular A-25, User Charges.

The existing process for determining and charging fees on a case-by-case basis has become unwieldy and inefficient. Consequently, we are implementing standard fees that are calculated to reflect the full cost of providing information for nonprogram-related purposes, consistent with section 1106 of the Act and our regulations, 20 CFR 402.175(a). This uniform approach will allow the public to understand the fee associated with a particular request for nonprogram-related information and make it easier for our field offices to determine the full cost of supplying the nonprogram-related information. We will implement the new fee schedule at all of our field offices simultaneously. For nonprogram-related requests not listed below, we will continue to charge fees calculated on a case-by-case basis to recover our full cost of supplying the information.

The new standard fee schedule per request:

Copy an Electronic Folder | $49
Copy a Paper Folder | 86
Letter Forwarding | 35
3rd Party Manual SSN Verification | 29
Regional Office Certification | 48
Office of Central Operations Certification | 32
W2/W3 Requests | 38
Record Extract | 33

We will evaluate these standard fees at least every two years to ensure we continue to capture the full costs associated with providing information for nonprogram-related purposes. We will require advance payment of the standard fee by check, money order, or credit card. We will not accept cash. If we revise any of the standard fees, we will publish another notice in the Federal Register.

Additional Information

Additional information is available on our Web site at http://socialsecurity.gov/pgm/business.htm or by written request to: Social Security Administration, Office of Public Inquiries, Windsor Park Building, 6401 Security Boulevard, Baltimore, MD 21235.

Dated: August 15, 2012.
Michael J. Astrue,
Commissioner of Social Security.

[FR Doc. 2012-20559 Filed 8-21-12; 8:45 am]

BILLING CODE 4191-02-P